SECURITIES AND EXCHANGE COMMISSION

[Release No. 34-54163A; File No. SR-NSCC-2006-06]

Self-Regulatory Organizations; National Securities Clearing Corporation; Notice of Filing and Immediate Effectiveness of Proposed Rule Change Relating to Enhancements to ACATS-Fund/SERV Processing Capabilities

July 28, 2006.

Correction

In Release No. 34-54163, FR Doc. E6-11681, revise the words “delivering member” to read “relevant mutual fund” in each of the following places:

a. page 41852, second column, fourth paragraph, tenth line;

b. page 41852, third column, first paragraph, third line;

c. page 41852, third column, second paragraph, fourteenth line;

d. page 41852, third column, second paragraph, twenty-first line;

e. page 41853, first column, second full paragraph, ninth line; and.

f. page 41853, first column, second full paragraph, twelfth line.

For the Commission by the Division of Market Regulation, pursuant to delegated authority.¹
¹ 17 CFR 200.30-3(a)(12).
J. Lynn Taylor,
Assistant Secretary.

[FR Doc. E6-12501 Filed 8-2-06; 8:45 am]

BILLING CODE 8010-01-P